ENVIRONMENTAL PROTECTION AGENCY

[EPA-HQ-OECA-2010-0413; FRL-9216-2; EPA ICR No. 0234.10; OMB Control No. 2080-0021]

Agency Information Collection Activities; Submission to OMB for Review and Approval; Comment Request; Performance Evaluation Studies on Wastewater Laboratories (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 19, 2010.

ADDRESSES: Submit your comments, referencing Docket ID No. EPA-HQ-OECA-2010-0413 to (1) EPA online using http://www.regulations.gov (our preferred method), by e-mail to docket.oeca@epa.gov, or by mail to: EPA Docket Center, Environmental Protection Agency, Enforcement and Compliance Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Patrick Yellin, Office of Compliance, Agriculture Division, 2225A, Environmental Protection Agency, 1200 Pennsylvania Ave., NW., Washington, DC 20460; telephone number: 202-564-2970; fax number: 202-564-0085; e-mail address: yellin.patrick@epa.gov.

SUPPLEMENTARY INFORMATION: EPA has submitted the following ICR to OMB for review and approval according to the procedures prescribed in 5 CFR 1320.12. On June 16, 2010 (75 FR 34110), EPA sought comments on this ICR pursuant to 5 CFR 1320.8(d). EPA received no comments. Any additional comments on this ICR should be submitted to EPA and OMB within 30 days of this notice.

EPA has established a public docket for this ICR under Docket ID No. EPA-HQ-OECA-2010-0413, which is available for online viewing at http://www.regulations.gov, or in person viewing at the Enforcement and Compliance Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Enforcement and Compliance Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Performance Evaluation Studies on Wastewater Laboratories (Renewal).

ICR numbers: EPA ICR No. 0234.10, OMB Control No. 2080-0021.

ICR Status: This ICR is scheduled to expire on December 31, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Discharge Monitoring Report-Quality Assurance (DMR-QA) participation is mandatory for major and selected minor permit holders under the Clean Water Act's National Pollution Discharge Elimination System (NPDES), Section 308. The DMR-QA study is designed to evaluate the analytic ability of the laboratories that perform chemical, microbiological and whole effluent toxicity (WET) analyses required in the NPDES permits for reporting results in the Discharge Monitoring Reports (DMR). Under DMR-QA, the permit holder is responsible: For having their in-house and/or contract laboratories perform proficiency test samples and submit results for grading by proficiency testing (PT) providers. Graded results are transmitted by either the permittee or PT provider to the appropriate Federal or State NPDES regulatory authority. Permit holders are responsible for submitting corrective action reports to the appropriate regulatory authority.

Burden Statement: The annual public reporting and recordkeeping burden for this collection of information is estimated to average 6.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: NPDES permittees designated by the EPA region or State with permitting responsibility and laboratories doing chemical/microbiological analysis and whole-effluent toxicity testing for these major dischargers.

Estimated Number of Respondents: 6,589.

Frequency of Response: Annual.

Estimated Total Annual Hour Burden: 41,511.

Estimated Total Annual Cost: $2,461,426, includes $1,251,910 annualized capital or O&M costs.

Changes in the Estimates: There is a decrease of 5,840 hours in the total estimated burden currently identified in the OMB Inventory of Approved ICR Burdens. This decrease reflects EPA's granting a waiver for four States to use their laboratory certification program as a substitute for the DMR-QA program. This resulted in a reduction in the average number of participants from 7,516 to 6,589. The maintenance and operational cost has increased by $11,770 due to increased costs for obtaining proficiency testing samples.

Dated: October 13, 2010.
John Moses,
Director, Collection Strategies Division.

[FR Doc. 2010-26455 Filed 10-19-10; 8:45 am]

BILLING CODE 6560-50-P